DEPARTMENT OF COMMERCE

International Trade Administration

[A-357-802, A-583-803, A-351-809, A-580-809, A-201-805, A-583-814, A-533-502, A-549-502, A-489-501, A-583-008]

Continuation of Antidumping Duty Orders: Light-Walled Rectangular Welded Carbon Steel Pipe and Tube From Argentina and Taiwan; Circular Welded Non-Alloy Steel Pipe and Tube from Brazil, Korea, Mexico, and Taiwan; Welded Carbon Steel Pipe and Tube From India, Thailand, and Turkey; and Small Diameter Standard and Rectangular Steel Pipe and Tube From Taiwan

AGENCY: Import Administration, International Trade Administration, Department of Commerce.

ACTION: Notice of continuation of antidumping duty orders: Light-walled rectangular welded carbon steel pipe and tube from Argentina and Taiwan; circular welded non-alloy steel pipe and tube from Brazil, India, Korea, Mexico and Taiwan; welded carbon steel pipe and tube from India, Thailand, and Turkey; and small diameter standard and rectangular pipe and tube from Taiwan.

SUMMARY: On December 1, 1999 and December 3, 1999, the Department of Commerce (“the Department”), pursuant to sections 751(c) and 752 of the Tariff Act of 1930, as amended (“the Act”), determined that revocation of the antidumping duty orders on (1) light-walled rectangular welded carbon steel pipe and tube from Argentina and Taiwan, (2) circular welded non-alloy steel pipe and tube from Brazil, Korea, Mexico, and Taiwan, (3) welded carbon steel pipe and tube from India, Thailand, and Turkey, and (4) small diameter standard and rectangular pipe and tube from Taiwan is likely to lead to continuation or recurrence of dumping. See 64 FR 67870; 67871; 67854; 67879; 67252, 67876, 67873.

On August 9, 2000, the International Trade Commission (“the Commission”), pursuant to section 751(c) of the Act, determined that revocation of the antidumping duty orders on light-walled rectangular welded carbon steel pipe and tube from Argentina and Taiwan; circular welded non-alloy steel pipe and tube from Brazil, Korea, Mexico, Taiwan; welded carbon steel pipe and tube from India, Thailand, and Turkey; and small diameter standard and rectangular pipe and tube from Taiwan would be likely to lead to continuation or recurrence of material injury to an industry in the United States within a reasonably foreseeable time. See 65 FR 48733 (August 9, 2000). Therefore, pursuant to 19 CFR 351.218(f)(4), the Department is publishing notice of continuation of the antidumping duty orders on light-walled rectangular welded carbon steel pipe and tube from Argentina and Taiwan; circular welded non-alloy steel pipe and tube from Brazil, Korea, Mexico, and Taiwan; welded carbon steel pipe and tube from India, Thailand and Turkey; and small diameter carbon steel pipe and tube from Taiwan.

EFFECTIVE DATE OF CONTINUATION: August 22, 2000.

FOR FURTHER INFORMATION CONTACT: Martha V. Douthit or James P. Maeder, Office of Policy for Import Administration, International Trade Administration, U.S. Department of Commerce, 14th Street and Constitution Ave., NW, Washington, D.C. 20230; telephone: (202) 482-5050 or (202) 482-3330, respectively.

SUPPLEMENTARY INFORMATION:

Background

On May 3, 1999, the Department initiated, and the Commission instituted sunset reviews (64 FR 23596 and 64 FR 23679 ) of the antidumping duty orders on light-walled rectangular welded carbon steel pipe and tube from Argentina and Taiwan; circular welded non-alloy steel pipe and tube from Brazil, Korea, Mexico, and Taiwan; welded carbon steel pipe and tube from India, Thailand, and Turkey; and small diameter carbon steel pipe and tube from Taiwan pursuant to section 751(c) of the Act. As a result of its reviews, the Department found on December 3, 1999, that revocation of the antidumping duty orders on light-walled rectangular welded carbon steel pipe and tube from Argentina and Taiwan; circular welded non-alloy steel pipe and tube from Brazil, Korea, Mexico, and Taiwan; welded carbon steel pipe and tube from India, Thailand, and Turkey; and small diameter carbon steel pipe and tube from Taiwan would likely lead to continuation or recurrence of dumping and notified the Commission of the magnitude of the margins likely to prevail were the order revoked. See 64 FR 67870; 67871; 67854; 67879; 67252, 67876, 67873.

On August 9, 2000, the Commission determined, pursuant to section 751(c) of the Act, that revocation of the antidumping duty orders on light-walled rectangular welded carbon steel pipe and tube from Argentina and Taiwan; circular welded non-alloy steel pipe and tube from Brazil, Korea, Mexico, and Taiwan; welded carbon steel pipe and tube from India, Thailand, and Turkey; and small diameter carbon steel pipe and tube from Taiwan would be likely to lead to continuation or recurrence of material injury to an industry in the United States within a reasonably foreseeable time. See Certain Pipe and Tube from Argentina, Brazil, Canada, India, Korea, Mexico, Singapore, Taiwan, Thailand, Turkey, and Venezuela, 65 FR 48733 (August 9, 2000) and USITC Publication 3316, Investigation No. 731-TA-409, 532, 271, 533, 534, 132, 410, 536, 253, 252 (Review)(July 2000).

Scope of the Orders

See Appendix.

Determination

As a result of the determination by the Department and the Commission that revocation of the antidumping duty orders would be likely to lead to continuation or recurrence of dumping and material injury to an industry in the United States, pursuant to section 751(d)(2) of the Act and 19 CFR 351.222(i)(1), the Department hereby orders the continuation of the antidumping duty orders on light-walled rectangular welded carbon steel pipe and tube from Argentina and Taiwan; circular welded non-alloy steel pipe and tube from Brazil, Korea, Mexico, and Taiwan; welded carbon steel pipe and tube from India, Thailand, Turkey; and small diameter carbon steel pipe and tube from Taiwan.

The Department will instruct the U.S. Customs Service to continue to collect antidumping duty deposits at the rates in effect at the time of entry for all imports of subject merchandise. The effective date of continuation of these orders will be the date of publication in the Federal Register of this notice. Pursuant to section 751(c)(2) and 751 (c)(6) of the Act, the Department intends to initiate the next five-year review of the orders on light-walled rectangular welded carbon steel pipe and tube from Argentina and Taiwan; circular welded non-alloy steel pipe and tube from Brazil, Korea, Mexico, and Taiwan; welded carbon steel pipe and tube from India, Thailand, and Turkey; and small diameter carbon steel pipe and tube from Taiwan not later than July 2005.

Dated: August 16, 2000.
Troy H. Cribb,
Acting Assistant Secretary for Import Administration.

Appendix—Scope of the Orders

Argentina—Light-Walled Rectangular Welded Carbon Steel Pipe and Tube (A-357-802)

The merchandise subject to this antidumping duty order is light-walled welded carbon steel tubing of rectangular (including square) cross-section, having a wall thickness of less than 0.156 inch, from Argentina. The subject merchandise is classifiable under item 7306.60.50.00 of the Harmonized Tariff Schedule of the United States (“HTSUS”). Although the HTSUS item number is provided for convenience and U.S. customs purposes, the written description remains dispositive. This review covers imports from all producers and exporters of light-walled welded carbon steel tubing from Argentina.

Taiwan—Light-Walled Rectangular Welded Carbon Steel Pipe and Tube (A-583-803)

The subject merchandise covered by the antidumping duty order on Taiwan includes shipments of light-walled welded carbon steel pipe and tube of rectangular (including square) cross-section having a wall thickness of less than 0.156 inch. The subject merchandise is classifiable under item number 7306.60.50.00 of the HTSUS. Although the HTSUS item number is provided for convenience and customs purposes, the written description remains dispositive.

India—Welded Carbon Steel Pipe and Tube (A-533-502)

The products covered by this antidumping duty order include circular welded non-alloy steel pipe and tube, of circular cross-section, but not more than 406.4 millimeters (16 inches) in outside diameter, regardless of wall thickness, surface finish (black, galvanized, or painted), or end finish (plain end, beveled end, threaded, or threaded and coupled). These pipe and tube are generally known as standard pipe, though they may also be called structural or mechanical tubing in certain applications. Standard pipe and tube are intended for the low-pressure conveyance of water, steam, natural gas, air and other liquids and gases in plumbing and heating systems, air-conditioner units, automatic sprinkler systems, and other related uses. Standard pipe may also be used for light load-bearing and mechanical applications, such as for fence tubing, and for protection of electrical wiring, such as conduit shells. The scope is not limited to standard pipe and fence tubing or those types of mechanical and structural pipe that are used in standard pipe applications. All carbon-steel pipe and tube within the physical description outlined above are included in the scope of this order, except for line pipe, oil-country tubular goods, boiler tubing, cold-drawn or cold-rolled mechanical tubing, pipe and tube hollows for redraws, finished scaffolding, and finished rigid conduit. Imports of the products covered by this order are currently classifiable under the following HTSUS subheadings: 7306.30.10.00, 7306.30.50.25, 7306.30.50.32, 7306.30.50.40, 7306.30.50.55, 7306.30.50.85, and 7306.30.50.90. Although, the HTSUS item numbers are provided for convenience and customs purposes, the Department's written description of the scope of this order remains dispositive.

Thailand—Welded Carbon Steel Pipe and Tube (A-549-502)

The merchandise subject to this antidumping duty order is certain circular welded carbon steel pipe and tube, commonly referred to in the industry as “standard pipe” or “structural tubing,” with walls not thinner than 0.065 inches, and 0.375 inches or more, but not over 16 inches in outside diameter. The subject merchandise was classifiable under items 610.3231, 610.3234, 610.3241, 610.3242, 610.3243, and 610.3252, 610.3254, 610.3256, 610.3258, 610.4925 of the TSUSA; currently, it is classifiable under item numbers 7306.30.1000, 7306.30.5025, 7306.30.5032, and 7306.30.5040, 7306.30.5055, 7306.30.5805 and 7306.30.5090 of the HTSUS. Although the TSUSA and HTSUS item numbers are provided for convenience and customs purposes, the written description remains dispositive. There was one scope ruling in which British Standard light pipe 387/67, Class A-1 was found to be within the scope of the order per remand (58 FR 27542, May 10, 1993).

Turkey—Welded Carbon Steel Pipe and Tube (A-489-501)

The products covered by this antidumping duty order include circular welded non-alloy steel pipe and tube, of circular cross-section, not more than 16 inches in outside diameter, regardless of wall thickness, surface finish (black, galvanized, or painted) or end finish (plain end, beveled end, threaded, or threaded and coupled). These pipe and tube are generally known as standard pipe, though they may also be called structural or mechanical tubing in certain applications. Standard pipe and tube are intended for the low-pressure conveyance of water, steam, natural gas, air and other liquids and gases in plumbing and heating systems, air-conditioner units, automatic sprinkler systems, and other related uses. Standard pipe may also be used for light load-bearing and mechanical applications, such as for fence tubing, and for protections of electrical wiring, such as conduit shells. The scope is not limited to standard pipe and fence tubing or those types of mechanical and structural pipe that are used in standard pipe applications. All carbon steel pipe and tube within the physical description outline above are included in the scope of this review, except for line pipe, oil country tubular goods, boiler tubing, cold-drawn or cold-rolled mechanical tubing, pipe and tube hollows for redraws, finished scaffolding, and finished rigid conduit. The subject merchandise was classifiable under items 610.3231, 610.3234, 610.3241, 610.3242, 610.3243, and 610.3252, 610.3254, 610.3256, 610.3258, 610.4925 of the TSUSA; currently, it is classifiable under item numbers 7306.30.1000, 7306.30.5025, 7306.30.5032, and 7306.30.5040, 7306.30.5055, 7306.30.5805 and 7306.30.5090 of the HTSUS. Although the TSUSA and HTSUS item numbers are provided for convenience and customs purposes, the written description remains dispositive.

Brazil, Korea and Mexico—Circular Welded Non-Alloy Steel Pipe and Tube (A-351-809, A-580-809, A-201-805)

The merchandise subject to these antidumping duty orders is circular welded non-alloy steel pipe and tube from Brazil, Korea, and Mexico. The product consists of circular cross-section, not more than 406.4mm (16 inches) in outside diameter, regardless of wall thickness, surface finish (black, galvanized, or painted), or end finish (plain end, beveled end, threaded, or threaded and coupled). These pipe and tube are generally known as standard pipe and tube and are intended for the low-pressure conveyance of water, steam, natural gas, air and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order. All carbon-steel pipe and tube within the physical description outlined above are included within the scope of these orders, except line pipe, oil country tubular goods, boiler tubing, mechanical tubing, pipe and tube hollows for redraws, finished scaffolding, and finished conduit. Standard pipe that is dual or triple certified/stenciled that enters the United States as line pipe of a kind used for oil and gas pipelines is also not included in this order. Imports of the products covered by these orders are currently classifiable under the following HTSUS subheadings: 7306.30.10.00, 7306.30.50.25, 7306.30.50.32, 7306.30.50.40, 7306.30.50.55, 7306.30.50.85, 7306.30.50.90. Although the HTSUS subheadings are provided for convenience and customs purposes, our written description of the scope of these orders is dispositive.

Scope Clarification: On March 21, 1996, in a final scope ruling, the Department determined that: (i) Pipe certified to the API 5L line pipe specification, and (ii) pipe certified to both the API 5L line pipe specifications and the less-stringent ASTM A-53 standard pipe specifications which fall within the physical parameters outlined in the scope of the orders and enter as line pipe of a kind used for oil and gas pipelines are outside the scope of the antidumping duty orders on certain welded carbon steel non-alloy pipe from Brazil, Korea, and Mexico, irrespective of end use. Mexico—On December 31, 1995, Tubacero International Corporation requested clarification to determine whether circular welded carbon steel piping, 16 inches in outside diameter with ⅜ inch wall thickness, for use in extremely heavy load bearing applications, is within the scope of the order. On April 25, 1996, the Department determined that circular welded carbon steel piping, 16 inches in outside diameter with ⅜ inch wall thickness, for use in extremely heavy load bearing applications, is within the scope of the order (see Notice of Scope Rulings, 61 FR 18381 (April 25, 1996)).

Mexico—Cierra Pipe, Incorporated submitted a request for a scope clarification of the subject merchandise to determine whether line pipe “shorts”, or “old line pipe” which has rusted and pitted after sitting in storage, constitute line pipe of a kind used for oil and gas pipelines or is pipe and tubed covered by the order (see 63 FR 59544 (November 4, 1998).

On November 19, 1998, the Department determined that (Certain Circular Welded Non-Alloy Steel Pipe; Galvak, S.A. de C.V.) circular welded non-alloy steel pipe manufactured to ASTM A-787 specifications is within the scope.

Taiwan—Circular Welded Non-Alloy Steel Pipe and Tube (A-583-814)

The products covered by this order are: (1) Circular welded non-alloy steel pipes and tubes, of circular cross-section over 114.3 millimeters (4.5 inches), but not over 406.4 millimeters (16 inches) in outside diameter, with a wall thickness of 1.65 millimeters (0.065 inches) or more, regardless of surface finish (black, galvanized, or painted), or end finish (plain end, beveled end, threaded, or threaded and coupled); and (2) circular welded non-alloy steel pipe and tube, of circular cross-section less than 406.4 millimeters (16 inches), with a wall thickness of less than 1.65 millimeters (0.065 inches), regardless of surface finish (black, galvanized, or painted) or end finish (plain end, beveled end, threaded, or threaded and coupled). These pipe and tube are generally known as standard pipe and tube and are intended for the low pressure conveyance of water, steam, natural gas, air, and other liquids and gases in plumbing and heating systems, air-conditioning units, automatic sprinkler systems, and other related uses, and generally meet ASTM A-53 specifications. Standard pipe may also be used for light load-bearing applications, such as for fence tubing, and as structural pipe tubing used for framing and support members for construction or load-bearing purposes in the construction, shipbuilding, trucking, farm equipment, and related industries. Unfinished conduit pipe is also included in these orders. All carbon steel pipe and tube within the physical description outlined above are included within the scope of this order, except line pipe, oil country tubular goods, boiler tubing, mechanical tubing, pipe and tube hollows for redraws, finished scaffolding, and finished conduit. Standard pipe that is dual or triple certified/stenciled that enters the United States as line pipe of a kind used for oil and gas pipelines is also not included in this order. Imports of the products covered by this order are currently classifiable under the following HTS subheadings: 7306.30.10.00, 7306.30,50.25, 7306.30.50.32, 7306.30.50.40, 7306.30.50.55, 7306.30.50.85, 7306.30.50.90. The written description of the scope of this order is dispositive.

Taiwan—Small Diameter Carbon Steel Pipe and Tube (circular welded carbon steel pipe and tube) (A-583-008)

Imports covered by this order are shipments of certain circular welded carbon steel pipe and tube. The Department defines such merchandise as welded carbon steel pipe and tube of circular cross section, with walls not thinner than 0.065 inch and 0.375 inch or more but not over 4½ inches in outside diameter. These products are commonly referred to as “standard pipe” and are produced to various American Society for Testing Materials Specifications, most notably A-53, A-120, or A-135. Standard pipe is currently classified under HTSUS item numbers 7306.30.5025, 7306.30.5032, 7306.30.5040, and 7306.30.5055. Although the HTSUS subheading is provided for convenience and customs purposes, the written description of the merchandise under this order is dispositive.

[FR Doc. 00-21397 Filed 8-21-00; 8:45 am]

BILLING CODE 3510-DS-P